DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 71 FR 32349-32350, dated June 5, 2006) is amended to reflect the reorganization of the Office of the Chief Science Officer, Office of the Director, Centers for Disease Control and Prevention.

Section C-B, Organization and Functions, is hereby amended as follows:

Revise the functional statement for the Office of the Chief Science Officer (CAS), as follows:

After item (12), insert the following item: (13) provides oversight, training, monitoring, and quality assurance in the use of animals in research.

Delete item (10) of the functional statement for the Scientific Resources Program (CVCE), National Center for Infectious Diseases (CVC), and renumber the remaining items accordingly.

Dated: June 22, 2006.
William H. Gimson,
Chief Operating Officer, Centers for Disease Control and Prevention (CDC).

[FR Doc. 06-5785 Filed 6-28-06; 8:45 am]

BILLING CODE 4160-18-M